DEPARTMENT OF TRANSPORTATION

Surface Transportation Board

[STB Finance Docket No. 34051]

Utah Central Railway Company—Lease and Operation Exemption—Union Pacific Railroad Company

Utah Central Railway Company (UCRC), a Class III rail carrier, has filed a notice of exemption ¹ under 49 CFR 1150.41 et seq. to lease from Union Pacific Railroad Company (UP) and operate a line of railroad, with appurtenances, within the Ogden, UT area. The trackage encompasses the former Denver, Rio Grande & Western Railroad mainline trackage from Transfer Yard, milepost 781.00 to milepost 778.00, including the passing and stub tracks; the Evona Industrial Lead; the Relico Spur; the Sugar Works Spur; the Dyce Bypass Track up to the point of switch to the Shasta Lead Track; and Tracks 713 and 714, serving Dyce Chemical.

¹ The notice of exemption was filed on June 26, 2001, and was amended by a pleading filed July 2, 2001. On August 7, 2001, an amended notice was filed, incorporating the June 26 and July 2 filings. The record was not made complete until the amended notice was filed, thereby causing the official filing date to be August 7.

UCRC certifies that its projected revenues as a result of the transaction will not result in its becoming a Class II or Class I rail carrier.

The earliest the transaction could have been consummated was August 14, 2001, the effective date of the exemption, 7 days after the amendment was filed. The parties intended consummation date is 5 days after UP has notified UCRC that UP has received satisfactory evidence of compliance with conditions precedent, including Board approval of the transaction.

If the notice contains false or misleading information, the exemption is void ab initio. Petitions to revoke the exemption under 49 U.S.C. 10502(d) may be filed at any time. The filing of a petition to revoke will not automatically stay the transaction.

An original and 10 copies of all pleadings, referring to STB Finance Docket No. 34051, must be filed with the Surface Transportation Board, Office of the Secretary, Case Control Unit, 1925 K Street, NW., Washington, DC 20423-0001. In addition, one copy of each pleading must be served on Casey K. McGarvey, 50 South Main, Suite 1250, Salt Lake City, UT 84144.

Board decisions and notices are available on our website at www.stb.dot.gov.

Decided: August 15, 2001.
By the Board, David M. Konschnik, Director, Office of Proceedings.
Vernon A. Williams,
Secretary.

[FR Doc. 01-21035 Filed 8-21-01; 8:45 am]

BILLING CODE 4915-00-P